DEPARTMENT OF ENERGY

Federal Energy Regulatory Commission

[Project No. 1986]

Oregon Trail Electric Consumers Cooperative Inc.; Notice Soliciting Applications

July 27, 2000.

On July 1, 1991, Oregon Trail Electric Consumers Inc., licensee for the rock Creek Hydroelectric Project No. 1986, filed a notice of intent to file an application for a new license, pursuant to section 15(b)(1) of the Federal Power Act (Act). The original license for Project No. 1986 was issued effective June 30, 1946, and expired June 29, 1996. The project occupies 6.29 acres of land of the United States within the Whitman National Forest.

The project is located on the Rock Creek, a tributary of the Powder River, in Baker County, Oregon. The principal project works consist of: (a) low concrete diversion dam; (b) an8,800-foot-long flume; (c) a regulating forebay of about 7 acre-feet; (d) a 2,720-foot-long penstock; (e) a powerhouse with a total installed capacity of 800 kW; (f) a transmission line; and (g) appurtenant facilities.

The licensee did not file an application for new license which was due by June 29, 1994. Pursuant to section 16.25 of the Commission's Regulations, the Commission solicited applications from potential applicants other than the existing licensee. On June 19, 1995, a prospective applicant responded to the notice soliciting applications. The Commission accepted the notice of intent to file a license application and has been waiting since June 19, 1995, for an adequate application. However to date this has not happened. Therefore, the Commission is again soliciting applications for the Rock Creek Project.

Pursuant to section 16.19 of the Commission's Regulations, the licensee is required to make available certain information described in Section 16.7 of the regulations. Such information is available from the licensee at 3275 Baker Street, Baker City, OR 97814.

A potential applicant that files a notice of intent within 90 days from the date of issuance of this notice: (1) may apply for a license under part 1 of the Act and part 4 (except section 4.38) of the Commission's Regulations within 18 months of the date on which it files its notice; and (2) must comply with the requirements of section 16.8 of the Commission's Regulations.

David P. Boergers,
Secretary.

[FR Doc. 00-19455 Filed 8-1-00; 8:45 am]

BILLING CODE 6717-01-M